DEPARTMENT OF THE TREASURY

Submission for OMB Review; Comment Request

April 4, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES:

Written comments should be received on or before May 15, 2000, to be assured of consideration.

Internal Revenue Service (IRS)

OMB Number: New.

Form Number: None.

Type of Review: New collection.

Title: Wage and Investment Taxpayer Prefiling and Filing Burden Study.

Description: This study is designed to collect the amount of time and money Wage & Investment taxpayers incur as a result of the Federal income tax law and regulations. This new method will be a valuable tool in the IRS's ongoing effort to improve customer service, as well as for policy makers to understand the full effect of tax law changes. In particular, it will help the IRS understand the burdens placed on its customers by the Federal tax system—its laws, its administration, and changes to those factors.

Respondents: Individuals or households.

Estimated Number of Respondents: 8,300.

Estimated Burden Hours Per Respondent: 20 minutes (for completed interviews).

Frequency of Response: Other (One-Time).

Estimated Total Reporting Burden: 2,230 hours.

Clearance Officer: Garrick Shear, Internal Revenue Service, Room 5244, 1111 Constitution Avenue, NW., Washington, DC 20224.

OMB Reviewer: Alexander T. Hunt, Office of Management and Budget, Room 10202, New Executive Office Building, Washington, DC 20503; phone: (202) 395-7860.

Mary A. Able,
Departmental Reports Management Officer.

[FR Doc. 00-9338 Filed 4-13-00; 8:45 am]

BILLING CODE 4830-01-U